DEPARTMENT OF COMMERCE

National Oceanic and Atmospheric Administration

[RTID 0648-XD272]

Adjustment of Fees for Seafood Inspection Services

AGENCY: National Marine Fisheries Service (NMFS), National Oceanic and Atmospheric Administration (NOAA), Commerce.

ACTION: Notice of fee schedule for seafood inspection services.

SUMMARY: The NMFS Seafood Inspection Program is notifying program participants that its fee schedule for fiscal year 2024 will remain as established on November 1, 2022.

DATES: The fee schedule applies to services rendered as of October 1, 2023, until notified otherwise.

FOR FURTHER INFORMATION CONTACT: Steven Wilson, Office of International Affairs, Trade, and Commerce, 301-427-8350 or at steven.wilson@noaa.gov.

SUPPLEMENTARY INFORMATION: The National Marine Fisheries Service (NMFS) operates a fee-for-service Seafood Inspection Program (Program) under the authorities of the Agricultural Marketing Act of 1946, as amended, the Fish and Wildlife Act of 1956, and the Reorganization Plan No. 4 of 1970. The regulations implementing the Program are contained in 50 CFR parts 260 and 261. The Program offers inspection, grading, and certification services, including the use of official quality grade marks which indicate that specific products have been federally inspected. Those wishing to participate in the program must request the services and submit specific compliance information. Since 1992, NMFS implemented inspection services based on guidelines recommended by the National Academy of Sciences, known as Hazard Analysis Critical Control Point (HACCP).

Under the implementing regulations for the Program, fees are reviewed at least annually to ascertain that the hourly fees charged are adequate to recover the costs of the services rendered. Any necessary adjustments to fees are made in accordance with the requirements of 50 CFR 260.81 and are notified to program participants as stipulated at 50 CFR 260.70. This Federal Register notice serves to inform program participants of the fee schedule, which remains unchanged.

Seafood Inspection Program (SIP) costs used for the calculation of user fees include all relevant direct and indirect costs to the program, and applicable administrative overhead and surcharges. SIP fees must be set to promote full cost recovery of the program absent other appropriations.

Program costs include all field operations, program administrative overhead, and management, and include expenses for labor for inspectors, facilities, information technology infrastructure, and other operational costs. SIP fees are set to recover those costs based on revenue projections from expected billable service hours and the number of certificates requests. Forecasts of demand for services use historical data on actual billed services that are adjusted annually for inflation, known events that might affect the predicted output of billable services, and seasonality of when forecasted services will take place throughout the year.

NMFS will assess its fees as outlined in this notice, which will apply until notified otherwise. Fees will be charged to contract and non-contract customers requesting services as listed below. The cost of other applicable services rendered will be recovered through fee collection using the base rate of $238 per hour.

Fees and Charges for the U.S. Department of Commerce (USDC) Seafood Inspection Program

The per hour fees and charges for fishery products inspection services are not being revised and will remain as established on November 1, 2022 for Fiscal Year 2024 and will be assessed as follows. Any travel associated with a billable service will be an additional charge.

Contract Rates

Regular Time: Services provided during any 8-hour shift.

Overtime: Services provided outside the inspector's normal work schedule.

In addition to any hourly service charge, a night differential fee equal to 10 percent of the employee's hourly salary will be charged for each hour of service provided after 6:00 p.m. and before 6:00 a.m. A guarantee of payment is required for all contracts equal to three months of service or $10,000, whichever is greater.

Non-Contract Rates

Regular time: Services provided within the inspector's normal work schedule, Monday through Friday.

Overtime: Services provided outside the inspector's normal work schedule.

Any services under contract in excess of the contracted hours will be charged at the non-contract rate.

Contract Rates

Non-HACCP Contracts

REGULAR TIME $238

OVERTIME $357

SUNDAY & HOLIDAYS $476

HACCP/QMP Contracts

HACCP REGULAR $238

HACCP OVERTIME $357

HACCP SUNDAY & HOLIDAYS $476

All Non-Contract Work Rates

REGULAR TIME $357

OVERTIME $536

SUNDAY & HOLIDAYS $714

Certificates

All certificate requests, whether or not a product inspection was conducted, will be billed at a set flat rate of $97 per request.

Additional information about, and applications for, Program services and fees may be obtained from NMFS (see FOR FURTHER INFORMATION CONTACT).

Dated: August 28, 2023.
Alexa Cole,
Director, Office of International Affairs, Trade, and Commerce, National Marine Fisheries Service.

[FR Doc. 2023-18886 Filed 8-31-23; 8:45 am]

BILLING CODE 3510-22-P